DEPARTMENT OF HEALTH AND HUMAN SERVICES

Food and Drug Administration

[Docket No. FDA-2022-N-2174]

Oncologic Drugs Advisory Committee; Cancellation

AGENCY: Food and Drug Administration, HHS.

ACTION: Notice.

SUMMARY: The meeting of the Oncologic Drugs Advisory Committee scheduled for November 22, 2022, is canceled. This meeting was announced in the Federal Register of September 22, 2022. The meeting is no longer needed.

FOR FURTHER INFORMATION CONTACT: Joyce Frimpong, Center for Drug Evaluation and Research, Food and Drug Administration, 10903 New Hampshire Ave., Bldg. 31, Rm. 2417, Silver Spring, MD 20993-0002, 301-796-7973, ODAC@fda.hhs.gov, or FDA Advisory Committee Information Line, 1-800-741-8138 (301-443-0572 in the Washington, DC area), and follow the prompts to the desired center or product area. Please call the Information Line for up-to-date information on this meeting, which was announced in the Federal Register of September 22, 2022 (87 FR 57904).

Dated: November 3, 2022.
Lauren K. Roth,
Associate Commissioner for Policy.

[FR Doc. 2022-24470 Filed 11-8-22; 8:45 am]

BILLING CODE 4164-01-P